DEPARTMENT OF COMMERCE

Office of the Secretary

[Docket No. 141217999-4999-01]

RIN 0690-XC003

Department of Commerce Pre-Award Notification Requirements for Grants and Cooperative Agreements

AGENCY: Department of Commerce (DOC).

ACTION: Notice.

SUMMARY: This notice replaces the U.S. Department of Commerce (DOC) Pre-Award Notification Requirements for Grants and Cooperative Agreements most recently published in the Federal Register on December 17, 2012 (77 FR 74634). This announcement constitutes notice of a recompilation of the Department of Commerce pre-award requirements for grants and cooperative agreements, including all amendments and revisions to date.

DATES: This notice is effective on December 26, 2014.

FOR FURTHER INFORMATION CONTACT: John Geisen, Department of Commerce Office of Acquisition Management, Telephone Number: (202) 482-0602.

SUPPLEMENTARY INFORMATION: The DOC is authorized to award grants and cooperative agreements under a wide range of programs that support economic development, international trade, minority businesses, standards and technology, oceanic/atmospheric services, and telecommunications and information. It is the policy of the DOC to seek full and open competition for awards of discretionary financial assistance funds whenever possible. Moreover, in general DOC financial assistance must be awarded through a merit-based review and selection process. Notices announcing the availability of Federal funds for new awards for each DOC competitive financial assistance program will be posted on www.grants.gov by the sponsoring operating unit in the uniform format for an announcement of Notice of Funding Opportunity (NOFA) published by the Office of Management and Budget (OMB). Note that the DOC may use the term “Federal Funding Opportunity (FFO)” interchangeably with NOFA. In limited circumstances (e.g., when required by statute), the DOC will also publish notices in the Federal Register announcing the availability of Federal funds for new awards.

In accordance with the Federal Register notice published on December 19, 2014 (79 FR 75871) and the regulation at 2 CFR 1327.101, the DOC adopted the OMB Uniform Administrative Requirements, Cost Principles, and Audit Requirements for Federal Awards set forth in 2 CFR part 200 (OMB Uniform Guidance) for DOC Federal financial assistance awards (i.e., grants and cooperative agreements). The DOC is updating its policies and administrative requirements applicable to its assistance programs to reflect the requirements of the OMB Uniform Guidance.

This announcement provides notice to applicants and other interested parties that various laws, regulations, administrative requirements, and Federal and DOC policies procedures apply to all DOC-sponsored assistance programs. A compilation of these requirements may be found on the DOC Web site at http://www.osec.doc.gov/oam/grants_management/policy/default.htm. Please note that as these requirements change, the DOC Web site will be updated, but there may be a time lag between when a requirement is effective and when it is posted at the previously referenced Web site. All requirements applicable to Federal awards will be clearly identified in the terms and conditions of the Federal award.

Dated: December 22, 2014.
John Geisen,
Grants Management Division, Office of Acquisition Management, Department of Commerce.

[FR Doc. 2014-30297 Filed 12-29-14; 8:45 am]

BILLING CODE 3510-17-P